DEPARTMENT OF DEFENSE

Department of the Army; Corps of Engineers

Withdrawal of Notice of Intent To Prepare a Draft Environmental Impact Statement for the Zoar Levee and Diversion Dam, Dam Safety Modification Study, Tuscarawas County, OH

AGENCY: Department of the Army, U.S. Army Corps of Engineers, DOD.

ACTION: Notice of intent; withdrawal.

SUMMARY: The U.S. Army Corps of Engineers (Corps), Huntington District, is withdrawing its intent to prepare a Draft Environmental Impact Statement (EIS) for the Zoar Levee and Diversion Dam, Dam Safety Modification Study. The Notice of Intent to prepare the EIS was published in the Federal Register on May 4, 2011 (76 FR 25310).

FOR FURTHER INFORMATION CONTACT: Mr. Andrew Johnson, Acting Chief, Environmental Analysis Section, U.S. Army Corps of Engineers, Huntington District, 502 Eighth Street, Huntington, WV 25701-2070. Telephone: (304) 399-5189. Email: Andrew.N.Johnson@usace.army.mil.

SUPPLEMENTARY INFORMATION: Originally, the Huntington District planned to prepare a Draft EIS to disclose potential impacts to the natural, physical, and human environment resulting from implementation of alternatives formulated to address reliability risks associated with Zoar Levee and Diversion Dam. These high hazard structures do not meet current performance standards and exceed acceptable risk levels. Initially, a full array of alternatives was planned to be formulated to meet the purpose and need of the study. After full consideration of all alternatives, the best plan was to be selected to achieve acceptable risk levels.

Completion of Dam Safety Baseline Risk Assessment in November 2013 reduced urgency, complexity and controversy associated with risks allowing for early screening of non-structural options driving potential for significant and controversial effects. Environmental Assessment (EA) level effort was determined sufficient for the Modification Study. Therefore, it is anticipated the EA will result in a Finding of No Significant Impact (FONSI), an EIS is not anticipated.

Leon F. Parrott,
Colonel, Corps of Engineers, District Engineer.

[FR Doc. 2014-03742 Filed 2-21-14; 8:45 am]

BILLING CODE 3720-58-P